DEPARTMENT OF AGRICULTURE

Animal and Plant Health Inspection Service

9 CFR Part 91

[Docket No. APHIS-2009-0067]

RIN 0579-AD18

Live Goats and Swine for Export; Removal of Certain Testing Requirements

AGENCY: Animal and Plant Health Inspection Service, USDA.

ACTION: Proposed rule.

SUMMARY: We are proposing to amend the livestock exportation regulations to eliminate the requirement for pre-export tuberculosis and brucellosis testing of goats and breeding swine intended for export to countries that do not require such tests. This action would facilitate the exportation of goats and breeding swine by eliminating the need to conduct pre-export tuberculosis and brucellosis testing when the receiving country does not require such testing.

DATES: We will consider all comments that we receive on or before November 16, 2010.

ADDRESSES: You may submit comments by either of the following methods:

• Federal eRulemaking Portal: Go to (http://www.regulations.gov/fdmspublic/component/main?main=DocketDetail&d=APHIS-2009-0067) to submit or view comments and to view supporting and related materials available electronically.

• Postal Mail/Commercial Delivery: Please send one copy of your comment to Docket No. APHIS-2009-0067, Regulatory Analysis and Development, PPD, APHIS, Station 3A-03.8, 4700 River Road Unit 118, Riverdale, MD 20737-1238. Please state that your comment refers to Docket No. APHIS-2009-0067.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Antonio Ramirez, Senior Staff Veterinarian, Technical Trade Services, National Center for Import and Export, VS, APHIS, 4700 River Road Unit 39, Riverdale, MD 20737-1231; (301) 734-8364.

SUPPLEMENTARY INFORMATION:

Background

The regulations in 9 CFR part 91, “Inspection and Handling of Livestock for Exportation” (referred to below as the regulations), prescribe conditions for exporting animals from the United States. Section 91.6 requires that goats intended for exportation be tested for tuberculosis and, for some goats, brucellosis prior to export. Section 91.9 requires that breeding swine intended for exportation be tested for brucellosis prior to export.

The regulations provide certain exceptions to the testing requirements for goats. Specifically, the regulations in § 91.6(a)(4) exempt goats being exported for immediate slaughter from complying with export requirements set forth in the section, including the testing requirements for tuberculosis and brucellosis. There are no exceptions to the brucellosis testing requirement for breeding swine in § 91.9.

Some countries do not require that goats and breeding swine be tested for tuberculosis and brucellosis prior to export. Even in such cases, though, our regulations require that such testing be conducted. Thus, these requirements can create an unnecessary burden for producers when testing is not required to satisfy the import regulations of the country to which they are exporting goats and breeding swine. To relieve this unnecessary burden, we are proposing to amend the regulations to exempt goats and breeding swine from tuberculosis and brucellosis testing prior to export if such testing is not required by the receiving country.

Specifically, we would amend paragraph (a)(4) of § 91.6 by adding provisions that would exempt all goats over 1 month of age being exported from the United States from that section’s tuberculosis testing requirements, if such testing is not required by the receiving country. We would also add provisions that would exempt dairy and breeding goats being exported from the United States from that section’s brucellosis testing requirements.

For swine, we would add a new paragraph to § 91.9 to provide that breeding swine being exported from the United States do not have to be tested for brucellosis if such testing is not required by the receiving country.

Currently, the provisions in § 91.9 are contained in a single paragraph (a); that paragraph addresses both the condition that swine being exported from the United States have not been fed garbage at any time and the condition that breeding swine being exported from the United States test negative for brucellosis. In order to make the provisions of § 91.9 clearer, and in order to accommodate the paragraph with the proposed testing exemption, we would split the current paragraph (a) into two paragraphs. The proposed new paragraph concerning testing requirements would be added as paragraph (c).

Executive Order 12866 and Regulatory Flexibility Act

This proposed rule has been determined to be not significant for the purposes of Executive Order 12866 and, therefore, has not been reviewed by the Office of Management and Budget.

We have prepared an economic analysis for this action. The economic analysis is posted with this proposed rule on the Regulations.gov Web site (see ADDRESSES above for instructions for accessing Regulations.gov) and may be obtained from the person listed under FOR FURTHER INFORMATION CONTACT.

The analysis identifies live goat and swine exporters as the small entities most likely to be affected by this action and considers the costs associated with the elimination of tuberculosis and brucellosis testing requirements for goats and swine being exported to countries that do require such tests. Based on the information presented in the analysis, we expect that the goat and swine wholesale trading industry would experience a reduction in compliance costs as a result of this action although the savings would be small in comparison to the value of the animals being exported. Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 91

Animal diseases, Animal welfare, Exports, Livestock, Reporting and recordkeeping requirements, Transportation.

Accordingly, we propose to amend 9 CFR part 91 as follows:

PART 91—INSPECTION AND HANDLING OF LIVESTOCK FOR EXPORTATION

1. The authority citation for part 91 continues to read as follows:

Authority: 7 U.S.C. 8301-8317; 19 U.S.C. 1644a(c); 21 U.S.C. 136, 136a, and 618; 46 U.S.C. 3901 and 3902; 7 CFR 2.22, 2.80, and 371.4.

2. In § 91.6, paragraph (a)(4) is revised to read as follows:

§ 91.6 Goats.

(a) * * *

(4) Exemptions. (i) Goats exported for immediate slaughter need not comply with the requirements of paragraphs (a)(1), (a)(2), (a)(3), and (a)(5) of this section.

(ii) Tuberculosis testing is not required for goats over 1 month of age exported to a country that does not require goats from the United States to be tested for tuberculosis as described in paragraph (a)(1) of this section.

(iii) Brucellosis testing is not required for dairy and breeding goats exported to a country that does not require goats from the United Stated to be tested for brucellosis as described in paragraph (a)(1) of this section.

3. Section 91.9 is revised to read as follows:

§ 91.9 Swine.

(a) No swine shall be exported if they were fed garbage at any time. The swine shall be accompanied by a certification from the owner stating that they were not fed garbage, and that any additions to the herd made within the 30 days immediately preceding the export shipment have been maintained isolated from the swine to be exported.

(b) Except as provided in paragraph (c) of this section, all breeding swine shall be tested for and show negative test results to brucellosis by a test prescribed in “Standard Agglutination Test Procedures for the Diagnosis of Brucellosis” or “Supplemental Test Procedures for the Diagnosis of Brucellosis.” The test results shall be classified negative in accordance with the provisions prescribed in the Recommended Brucellosis Eradication Uniform Methods and Rules, chapter 2, part II, G, 1, 2, and 3.

(c) Breeding swine exported to a country that does not require breeding swine from the United States to be tested for brucellosis need not comply with the requirements of paragraph (b) of this section.

(Approved by the Office of Management and Budget under control number 0579-0020)

Done in Washington, DC, this 13th day of September 2010.

Kevin Shea
Acting Administrator, Animal and Plant Health Inspection Service.

[FR Doc. 2010-23235 Filed 9-16-10: 8:45 am]

BILLING CODE 3410-34-S